DEPARTMENT OF HEALTH AND HUMAN SERVICES

Centers for Disease Control and Prevention

Mine Safety and Health Research Advisory Committee (MSHRAC), Metal Mining Automation and Advanced Technologies (MMAAT) Workgroup

AGENCY: Centers for Disease Control and Prevention (CDC), Department of Health and Human Services (HHS).

ACTION: Notice of meeting.

SUMMARY: In accordance with the Federal Advisory Committee Act, the CDC announces the following meeting for the Mine Safety and Health Research Advisory Committee (MSHRAC), Metal Mining Automation and Advanced Technologies (MMAAT) Workgroup. This meeting is open to the public, limited only by the space available. The public is welcome to submit written comments in advance of the meeting to the contact person below. Written comments received in advance of the meeting will be included in the official record of the meeting.

DATES: The meeting will be held on September 10, 2018, 8:00 a.m. to 4:00 p.m. MDT; and September 11, 2018, 8:00 a.m. to 12:00 noon MDT.

ADDRESSES: University of Colorado, Anschutz Medical Campus, 13001 E 17th Place, Aurora, CO 80045. On September 10, the meeting will be held in the Krugman Conference Hall, and on September 11 in the Education 2 South Auditorium, both on that campus.

FOR FURTHER INFORMATION CONTACT: Todd Ruff, MMAAT Workgroup Designated Federal Officer, NIOSH, CDC, 315 E Montgomery Avenue, Spokane, Washington 99207, Telephone (509) 354-8003; Email ter5@cdc.gov.

SUPPLEMENTARY INFORMATION:

Purpose: This meeting will focus on emerging health and safety issues associated with the implementation of automation and advanced technology in the U.S. metal mining industry. The meeting is designed to identify to what extent automation and smart technologies will be implemented in metal mining and in what timeframe; to identify the related emerging health & safety concern;, and to identify what gaps exist in occupational health & safety research related to automation and smart technologies.

Matters to be Considered: The agenda will include updates on the state-of-the-art in mining automation and case studies on implementing automation at mine sites. The updates will be followed by panel discussions regarding: (1) Human factors considerations, (2) risk management, (3) automated haulage, (4) sensor technology, and (5) data analytics. Each panel will seek input and discuss the health and safety implications associated with these various topics, and identify gaps for further study. Agenda items are subject to change as priorities dictate.

The Director, Management Analysis and Services Office, has been delegated the authority to sign Federal Register notices pertaining to announcements of meetings and other committee management activities for both CDC and the Agency for Toxic Substances and Disease Registry.

Sherri A. Berger,
Chief Operating Officer, Centers for Disease Control and Prevention.

[FR Doc. 2018-18185 Filed 8-22-18; 8:45 am]

BILLING CODE 4163-19-P